DEPARTMENT OF HOUSING AND URBAN DEVELOPMENT

[Docket No. FR-5376-N-38]

Notice of Submission of Proposed Information Collection to OMB Emergency Comment Request; Multifamily Weatherization Certification

AGENCY: Office of the Deputy Secretary, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: June 1, 2010.

ADDRESSES: Interested persons are invited to submit comments regarding this proposal. Comments must be received within fourteen (14) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Michael Freedberg, Office of Sustainable Housing and Communities, Room 10180. Department of Housing and Urban Development, 451 Seventh Street, SW., Washington, DC 20410; e-mail: Michael.Freedberg@hud.gov; telephone (202) 402-4366 or fax (202) 708-0465. This is not a toll-free number. Copies of available documents submitted to OMB may be obtained from Mr. Freedberg.

SUPPLEMENTARY INFORMATION: This Notice is soliciting comments from members of the public and affected agencies concerning the proposed collection of information to enable HUD to identify additional multifamily public and assisted housing properties or buildings that meet the income guidelines for DOE's Weatherization Assistance Program.

On January 25, 2010, the Department of Energy (DOE) published a regulation in the Federal Register that is intended to reduce the review and verification burden related to income eligibility and certain operational requirements under the DOE Weatherization Assistance Program (“weatherization program”) for certain properties identified by HUD.

The January 25 rule was developed to address significant additional funding appropriated by Congress for the weatherization program under the American Recovery and Revitalization Act of 2009 (“Recovery Act”). Under the new rule, if a public housing, assisted multi-family or Low Income Housing Tax Credit (LIHTC) building is identified by HUD and included on a list or lists published by DOE, that building meets DOE's weatherization program income requirements without the need for further evaluation or verification, and may meet certain other program requirements.

A minimum requirement for inclusion on these lists is that at least 66 percent of the residents of the building (50 percent for 2-4 unit buildings) must meet DOE's income eligibility requirement, which is currently set at 200 percent of the federal poverty level, or, if a state chooses, 60 percent of the State's median income.

The DOE Final Rule requires that each building within a project meet the income qualification requirements in order to be included on the published eligibility list, whereas HUD records for assisted properties are at generally at the property or project level—which may contain more than one building. The initial list of properties provided by HUD to DOE contains properties that HUD was able to verify income eligibility for participation by utilizing existing available information.

The buildings HUD was able to provide to DOE for inclusion on the initial lists were: (1) Projects/properties that consist of a single building, where at least 66 percent of the residents meet DOE's income requirements; and (2) projects/properties with more than one building where 100 percent of the project/property's residents meet DOE's income requirements.

A number of property owners have subsequently contacted HUD to request that properties not included on these initial lists be checked as to their eligibility. In order to enable HUD to verify additional buildings within projects/properties that may meet DOE's income guidelines, additional information is needed. Property owners may e-mail HUD at energyaction@hud.gov with a list of projects that the property owner believes should be included on the next published list of eligible buildings. For each property, a certification from the owner with the following information must be provided:

a. Property/Project ID number and address;

b. Number of individual buildings within that project/property;

c. List of addresses for each building, and the number of units in each building; and

d. For multiple buildings that share the same address, the apartment or unit addresses.

HUD will review the income information for those addresses associated with each building identified in the certification. If, utilizing this information, HUD is able to determine that an individual building within a project/property is income-eligible according to DOE requirements, HUD will provide that building to DOE for posting on DOE's Web site. Alternatively, if, with the additional information supplied, HUD is able to determine that all buildings within the project meet DOE's income requirements, the entire project/property will be forwarded to DOE for posting on DOE's Web site. The additional buildings and projects will be posted as a quarterly addendum to the DOE Lists.

This Emergency Comment Request meets Paperwork Reduction Act requirements for emergency processing as outlined in 5 CFR 1320.13. The emergency processing is related to the rapid obligation and expenditure deadlines established by the Recovery Act, and are therefore extremely time sensitive. HUD cannot reasonably comply with normal clearance procedures, because potential multifamily applicants will be placed at a competitive disadvantage in applying for weatherization program funds appropriated by Congress under the Recovery Act if normal clearance procedures are followed.

The opportunity to take advantage of the funds is essential to the objectives of the partnership established between HUD and DOE for this purpose, and to enable potential multifamily applicants to lower utility costs for low-income residents with these funds.

Further, emergency processing is essential in order to enable HUD to respond in a timely fashion to requests that have already been received from owners of public housing and assisted housing properties to have HUD review this information for the purpose of identifying these properties as meeting certain requirements for the weatherization program. Demand for the weatherization funds is very high, and long waiting lists already exist in many states for these funds; absent emergency processing of this information request, these individuals are likely to be placed at a competitive disadvantage in applying for Recovery Act weatherization assistance funding, since HUD is otherwise unable to identify these buildings or properties as meeting these requirements under the expedited procedures described in the DOE January 25, 2010 rule.

Failure to secure the information in a timely fashion may delay the ability of potential weatherization program grant recipients to apply for Recovery Act weatherization funds under the streamlined procedures envisioned in the DOE rule.

This Notice also lists the following information:

Title of Proposal: Multifamily Weatherization Certification.

Description of Information Collection: Certification to be provided by owners of public housing and assisted housing multifamily properties to enable HUD to identify additional properties or buildings that meet requirements of DOE's Weatherization Assistance Program, in addition to those properties already posted on DOE's Web site.

OMB Control Number: 2501—Pending.

Agency Form Numbers: None.

Members of Affected Public: Public Housing Authorities, Owners of HUD-assisted multifamily properties.

Estimation of the Total Numbers of Hours Needed to Prepare the Information Collection Including Number of Respondents, Frequency of Responses, and Hours of Responses: The estimated number of respondents is 100, and the number of responses is 1. There will be in total, approximately 100 total responses. The total reporting burden is 50 hours.

Status of the Proposed Information Collection: New collection of information.

Authority: The Paperwork Reduction Act of 1995, 44 U.S.C. Chapter 35, as amended.

Dated: May 11, 2010.
Leroy McKinney,
Departmental Reports Management Officer, Office of the Chief Information Officer.

[FR Doc. 2010-11736 Filed 5-17-10; 8:45 am]

BILLING CODE 4210-67-P